DEPARTMENT OF JUSTICE

Antitrust Division

Notice Pursuant to the National Cooperative Research and Production Act of 1993; Biosynthesis of Chemical Intermediates

Notice is hereby given that, on May 4, 2000, pursuant to Section 6(a) of the National Cooperative Research and Production Act of 1993, 15 U.S.C. 4301 et seq. (“the Act”), Biosynthesis of Chemical Intermediates has filed written notifications simultaneously with the Attorney General and the Federal Trade Commission disclosing changes in its membership status. The notifications were filed for the purpose of extending the Act's provisions limiting the recovery of antitrust plaintiffs to actual damages under specified circumstances. Specifically, the Chemicals Group of Henkel Corporation, Cincinnati, OH has been acquired by Cognis B.V., Netherlands, and has changed its name to Cognis Corporation; Henkel Corporation is no longer a member of the venture.

No other changes have been made in either the membership or planned activity of the group research project. Membership in this group research project remains open, and Biosynthesis of Chemical Intermediates intends to file additional written notification disclosing all changes in membership.

On July 10, 1998, Biosynthesis of Chemical Intermediates filed its original notification pursuant to Section 6(a) of the Act. The Department of Justice published a notice in the Federal Register pursuant to Section 6(b) of the Act on September 29, 1998 (63 FR 51952).

Constance K. Robinson,
Director of Operations, Antitrust Division.

[FR Doc. 01-7780 Filed 3-28-01; 8:45 am]

BILLING CODE 4410-11-M